DEPARTMENT OF COMMERCE

Foreign-Trade Zones Board

[Docket 2-2010]

Foreign-Trade Zone 201—Holyoke, MA; Application for Subzone; Yankee Candle Corporation (Candles and Gift Sets); Whately and South Deerfield, MA

An application has been submitted to the Foreign-Trade Zones Board (the Board) by the Holyoke Economic Development and Industrial Corporation, grantee of FTZ 201, requesting special-purpose subzone status for the candle and gift set manufacturing facility of Yankee Candle Corporation (Yankee Candle), located in Whately and South Deerfield, Massachusetts. The application was submitted pursuant to the provisions of the Foreign-Trade Zones Act, as amended (19 U.S.C. 81a-81u), and the regulations of the Board (15 CFR part 400). It was formally filed on January 13, 2010.

The Yankee Candle facilities (1,516 employees, 20,000,000 kg annual candle capacity, 3,200,000 unit annual gift set capacity) consist of four sites on 95 acres: Site 1 (44 acres) manufacturing and kitting facility located at 102 Christian Lane, Whately; Site 2 (31 acres) distribution facility located at 27 Yankee Candle Way, South Deerfield; Site 3 (10.5 acres) distribution and kitting facility located at 1 Plain Road, South Deerfield; and Site 4 (9.6 acres) warehousing facility located at 14 Industrial Drive West, South Deerfield. The facilities are used for the manufacturing and kitting of candles and gift sets. Components and materials sourced from abroad (representing 3-5% of the value of the finished candles and 25-30% of the value of the finished gift sets) include: metal lids, glass candle toppers and tart warmers (duty rate ranges from 2.6 to 30%).

FTZ procedures could exempt Yankee Candle from customs duty payments on the foreign components used in export production. The company anticipates that some 10 percent of the plant's shipments will be exported. On its domestic sales, Yankee Candle would be able to choose the duty rates during customs entry procedures that apply to the finished candles (duty-free) and gift sets (duty rate ranges from 6 to 7.2%) for the foreign inputs noted above. FTZ designation would further allow Yankee Candle to realize logistical benefits through the use of weekly customs entry procedures. Customs duties also could possibly be deferred or reduced on foreign status production equipment. The request indicates that the savings from FTZ procedures would help improve the plant's international competitiveness.

In accordance with the Board's regulations, Elizabeth Whiteman of the FTZ Staff is designated examiner to evaluate and analyze the facts and information presented in the application and case record and to report findings and recommendations to the Board.

Public comment is invited from interested parties. Submissions (original and 3 copies) shall be addressed to the Board's Executive Secretary at the address below. The closing period for their receipt is March 23, 2010. Rebuttal comments in response to material submitted during the foregoing period may be submitted during the subsequent 15-day period to April 7, 2010.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

FOR FURTHER INFORMATION CONTACT: Elizabeth Whiteman at Elizabeth.Whiteman@trade.gov or (202) 482-0473.

Dated: January 13, 2010.
Andrew McGilvray,
Executive Secretary.

[FR Doc. 2010-1244 Filed 1-21-10; 8:45 am]

BILLING CODE 3510-DS-P